DEPARTMENT OF EDUCATION

Ability-to-Benefit Tests

AGENCY: Department of Education.

ACTION: List of approved “Ability to Benefit” tests and passing scores; notice.

SUMMARY: The Secretary updates the list of approved “ability-to-benefit” (ATB) tests to include the Combined English Language Skills Assessment (CELSA) test Forms 1 and 2 published by the Association of Classroom Teacher Testers (ACTT). The Secretary has approved this test and its passing scores under section 484(d) of the Higher Education Act of 1965, as amended (HEA), and the implementing regulations in 34 CFR Part 668, Subpart J. An institution may use the CELSA test as an approved English as a Second Language (ESL) test to determine if a student who does not have a high school diploma or its recognized equivalent is eligible to receive funds under any title IV, HEA program. (The title IV, HEA programs include the Federal Pell Grant, Federal Family Education Loan, William D. Ford Federal Direct Loan, Federal Perkins Loan, Federal Work-Study, Federal Supplemental Educational Opportunity Grant, and the Leveraging Educational Assistance Partnership (LEAP) programs.)

FOR FURTHER INFORMATION CONTACT: Lorraine Kennedy, U.S. Department of Education, 400 Maryland Avenue, SW., Regional Office Building 3, Room 3045, Washington, DC 20202-5451, Telephone: (202) 708-8242. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: On October 25, 1996, we published a notice in the Federal Register (61 FR 55542-55543) that provided a list of eight “ability-to-benefit” tests that the Secretary approved under section 484(d) of the HEA and the implementing regulations in 34 CFR Part 668, Subpart J. We also included the approved passing scores for each of the approved tests. We added a ninth approved test, the American College Testing (ACT) Service test, and its passing score, in a Federal Register notice dated October 27, 1998, (63 FR 57540-57541). Finally, in a Federal Register notice dated May 5, 1999, (64 FR 24246-24247), we indicated that the nine approved ATB tests could be used for students with disabilities if certain conditions were met.

We are now adding a new approved test, the Combined English Language Skills Assessment (CELSA) test Form 1 and Form 2, as an approved English as a Second Language (ESL) test under 34 CFR 668.153(a)(2) and (a)(4). The passing score for Form 1 is 90 and the passing score for Form 2 is 90.

The CELSA test can be used to determine the ability-to-benefit of two groups of students whose native language is not English and who are not fluent in English. One group includes students who are enrolled solely in an ESL program. The second group includes students who are enrolled in a postsecondary educational program that is taught in English and has an ESL component where the students are also enrolled in the ESL component.

Please note that the CELSA test cannot be used for the following three groups of students whose native language is not English and who are not fluent in English:

Students who are enrolled in a program that is taught entirely in the students' native language which is not English.

Students who are enrolled in a program that is taught in English without an ESL component.

Students who are enrolled in a program that is taught in English with an ESL component but do not enroll in the ESL component.

Under 34 CFR 668.145(c)(1), when the Secretary approves an ATB test and the passing score on the test, the Secretary publishes the name of the test and the passing score in the Federal Register. Accordingly, the Secretary is publishing this update notice to indicate the approved additional test, CELSA, and its passing score. For the convenience of all interested parties, we are also including the nine previously approved ATB tests and passing scores. These 10 tests and passing scores are:

1. American College Testing (ACT): (English and Math)

Passing Scores: The approved passing scores on this test are as follows: English (14) and Math (15).

Publisher: The test publisher and the address, contact person, telephone, and fax number of the test publisher are: American College Testing (ACT), Placement Assessment Programs, 2201 North Dodge Street, P.O. Box 168, Iowa City, Iowa 52243, Contact: Dr. James Maxey, Telephone: (319) 337-1100, Fax: (319) 337-1790.

2. ASSET Program: Basic Skills Tests (Reading, Writing, and Numerical)—Forms B2 and C2.

Passing Scores: The approved passing scores on this test are as follows: Reading (34), Writing (34), and Numerical (33).

Publisher: The test publisher and the address, contact person, telephone, and fax number of the test publisher are: American College Testing (ACT), Placement Assessment Programs 2201 North Dodge Street, P.O. Box 168, Iowa City, Iowa 52243, Contact: Dr. John D. Roth, Telephone: (319) 337-1030, Fax: (319) 337-1790.

3. Career Programs Assessment (CPAT) Basic Skills Subtests (Language Usage, Reading and Numerical)—Forms A, B, and C.

Passing Scores: The approved passing scores on this test are as follows: Language Usage (43), Reading (44), and Numerical (42).

Publisher: The test publisher and the address, contact person, telephone, and fax number of the test publisher are: American College Testing (ACT), Placement Assessment Programs, 2201 North Dodge Street, P.O. Box 168, Iowa City, Iowa 52243, Contact: Dr. John D. Roth, Telephone: (319) 337-1030, Fax: (319) 337-1790.

4. Combined English Language Skills Assessment (CELSA), Forms 1 and 2.

Passing Scores: The approved passing scores on this test are as follows: CELSA Form 1 (90) and CELSA Form 2 (90).

Publisher: The test publisher and the address, contact person, telephone, and fax number of the test publisher are: Association of Classroom Teacher Testers (ACTT), 1187 Coast Village Road, PMB 378, Montecito, California 93108-2794, Contact: Pablo Buckelew, Telephone: (805) 569-0734, Fax: (805) 569-0004.

5. COMPASS Subtests: Prealgebra/Numerical Skills Placement, Reading Placement, and Writing Placement.

Passing Scores: The approved passing scores on this test are as follows: Prealgebra/Numerical (21), Reading (60), and Writing (31).

Publisher: The test publisher and the address, contact person, telephone, and fax number of the test publisher are: American College Testing (ACT), Placement Assessment Programs, 2201 North Dodge Street, P.O. Box 168, Iowa City, Iowa 52243, Contact: Dr. John D. Roth, Telephone: (319) 337-1030, Fax: (319) 337-1790.

6. Computerized Placement Tests (CPTs)/Accuplacer (Reading Comprehension, Sentence Skills, and Arithmetic).

Passing Scores: The approved passing scores on this test are as follows: Reading Comprehension (52), Sentence Skills (60), and Arithmetic (36).

Publisher: The test publisher and the address, contact person, telephone, and fax number of the test publisher are: The College Board, 45 Columbus Avenue, New York, New York 10023-6992 Contact: Ms. Loretta M. Church, Telephone: (212) 713-8000, Fax: (212) 713-8063.

7. Descriptive Tests: Descriptive Tests of Language Skills (DTLS) (Reading Comprehension, Sentence Structure and Conventions of Written English)—Forms M-K-3KDT and M-K-3LDT; and Descriptive Tests of Mathematical Skills (DTMS) (Arithmetic)—Forms M-K-3KDT and M-K-3LDT.

Passing Scores: The approved passing scores on this test are as follows: Reading Comprehension (108), Sentence Structure (9), Conventions of Written English (309), and Arithmetic (506).

Publisher: The test publisher and the address, contact person, telephone, and fax number of the test publisher are: The College Board, 45 Columbus Avenue, New York, New York 10023-6992, Contact: Ms. Loretta M. Church, Telephone: (212) 713-8000, Fax: (212) 713-8063.

8. Test of Adult Basic Education (TABE): (Reading Total, Total Mathematics, Total Language)—Forms 5 and 6, Level A, Complete Battery and Survey Versions.

Passing Scores: The approved passing scores on this test are as follows: Reading Total (768), Total Mathematics (783), Total Language (714).

Publisher: The test publisher and the address, contact person, telephone, and fax number of the test publisher are: CTB/McGraw-Hill, 20 Ryan Ranch Road, Monterey, California 93940-5703, Contact: Ms. Rea Christoffersson, Telephone: (831) 393-7363, Fax: (831) 393-7142.

9. Test of Adult Basic Education (TABE): (Reading, Total Mathematics, Language)—Forms 7 and 8, Level A, Complete Battery and Survey Versions.

Passing Scores: The approved passing scores on this test are as follows: Reading (559), Total Mathematics (562), Language (545).

Publisher: The test publisher and the address, contact person, telephone, and fax number of the test publisher are: CTB/McGraw-Hill, 20 Ryan Ranch Road, Monterey, California 93940-5703, Contact: Ms. Rea Christoffersson, Telephone: (831) 393-7363, Fax: (831) 393-7142.

10. Wonderlic Basic Skills Test (WBST)—Verbal Forms VS-1 & VS-2, Quantitative Forms QS-1 & QS-2.

Passing scores: The approved passing scores on this test are as follows: Verbal (200) and Quantitative (210).

Publisher: The test publisher and the address, contact person, telephone, and fax number of the test publisher are: Wonderlic Personnel Test, Inc., 1509 N. Milwaukee Ave., Libertyville, IL 60048-1380, Contact: Mr. Victor S. Artese, Telephone: (800) 323-3742, Fax: (847) 680-9492.

Duration of Approval

The Secretary approves each of these tests for five years, unless the Secretary withdraws this approval or the publisher requests that approval of a test be withdrawn. In either case, the Secretary will publish a notice in the Federal Register indicating this change.

Electronic Access to This Document

You may view this document, as well as all other Department of Education documents published in the Federal Register, in text or portable document format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1091(d).

Dated: January 9, 2001.
Greg Woods,
Chief Operating Officer, Student Financial Assistance.

[FR Doc. 01-1055 Filed 1-11-01; 8:45 am]

BILLING CODE 4000-01-P